Executive Order 14134 of January 3, 2025

Providing an Order of Succession Within the Department of Agriculture

By the authority vested in me as President by the Constitution and the laws of the United States of America, including the Federal Vacancies Reform Act of 1998, as amended, 5 U.S.C. 3345 et seq. (the “Act”), it is hereby ordered that:

Section 1. Order of Succession. (a) Subject to the provisions of section 2 of this order, and to the limitations set forth in the Act, the following officials of the Department of Agriculture, in the order listed, shall act as and perform the functions and duties of the office of Secretary of Agriculture (Secretary) during any period in which both the Secretary and the Deputy Secretary of Agriculture have died, resigned, or otherwise become unable to perform the functions and duties of the office of Secretary:

(i) Under Secretary of Agriculture for Farm Production and Conservation;

(ii) Under Secretary of Agriculture for Food, Nutrition, and Consumer Services;

(iii) Under Secretary of Agriculture for Natural Resources and Environment;

(iv) Under Secretary of Agriculture for Research, Education, and Economics;

(v) Under Secretary of Agriculture for Rural Development;

(vi) Under Secretary of Agriculture for Food Safety;

(vii) Under Secretary of Agriculture for Marketing and Regulatory Programs;

(viii) Under Secretary of Agriculture for Trade and Foreign Agricultural Affairs;

(ix) General Counsel of the Department of Agriculture;

(x) Assistant Secretary of Agriculture (Congressional Relations and Intergovernmental Affairs);

(xi) Chief Financial Officer, Department of Agriculture;

(xii) Assistant Secretary of Agriculture (Civil Rights);

(xiii) Assistant Secretary of Agriculture (Administration);

(xiv) Chief of Staff, Office of the Secretary;

(xv) State Executive Directors of the Farm Service Agency for the States of Kansas, Missouri, and Iowa, in order of seniority fixed by length of unbroken service as State Executive Director of that State;

(xvi) Director, Office of Budget and Program Analysis; and

(xvii) Chief, United States Forest Service.

(b) If any two or more individuals designated in subsection (a)(xv) of this section were sworn in to, or commenced service in, their respective offices on the same day, precedence shall be determined by the alphabetical order of the State in which the individual serves.

Sec. 2. Exceptions. (a) No individual who is serving in an office listed in section 1(a)(i)-(xvii) of this order in an acting capacity shall, by virtue of so serving, act as Secretary pursuant to this order.

(b) No individual who is serving in an office listed in section 1(a)(i)-(xvii) of this order shall act as Secretary unless that individual is otherwise eligible to so serve under the Act.

(c) Notwithstanding the provisions of this order, the President retains discretion, to the extent permitted by law, to depart from this order in designating an acting Secretary.

Sec. 3. Revocation. Executive Order 13612 of May 21, 2012 (Providing an Order of Succession Within the Department of Agriculture), is hereby revoked.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

January 3, 2025.

[FR Doc. 2025-00595

Filed 1-10-25; 8:45 am]

Billing code 3395-F4-P